DEPARTMENT OF LABOR

Employment and Training Administration

[NAFTA-05755]

Delphi Automotive Systems Corp., Delphi Delco Electronics Division, Body and Security Team, Oak Creek, WI; Notice of Revised Determination on Remand

The United States Court of International Trade (USCIT), on March 26, 2003, granted the Secretary of Labor's motion for voluntary remand for further investigation of the negative determination in Former Employees of Delphi Automotive Systems Corp. v. U.S. Secretary of Labor (Court No. 02-00565).

The Department's initial denial of the petition for employees of Delphi Automotive Systems Corporation, Delphi Delco Electronics Division, Body and Security Team, Oak Creek, Wisconsin (NAFTA-05755) was issued on April 16, 2002 and published in the Federal Register on May 2, 2002 (67 FR 22115). The denial was based on the fact that the workers' firm did not produce an article as required for certification under section 250(a), Subchapter D, Chapter 2, Title II, of the Trade Act of 1974.

On administrative reconsideration, the Department issued a “Notice of Negative Determination Regarding Application for Reconsideration” on June 18, 2002 for the employees of Delphi Automotive Systems Corporation, Delphi Delco Electronics Division, Body and Security Team, Oak Creek, Wisconsin. The notice was published in the Federal Register on July 22, 2002 (67 FR 47865 and 47866). The Department affirmed that workers were not engaged in the production of a product at the subject facility. The Department found that any shifts in plant activities were related to engineering, rather than production.

On remand, the Department contacted the company for additional information concerning plant activities and potential shifts in these activities to Mexico.

Based on additional information obtained from the company, it has become apparent that a portion of the functions performed at the subject firm constitute a fundamental part of the production of an article. It has also been determined that this production and a meaningful portion of plant support activities were shifted to Mexico, thus leading to plant employment declines during the relevant period.

This certification is limited to the workers of the company listed on the first page of the petition as “the company division or subdivision of the subject (affected) workers”: Delphi Automotive Systems Corporation, Delphi Delco Electronics Division, Body and Security Team, Oak Creek, Wisconsin. This petition does not cover the workers of Manpower Professional, an unaffiliated firm of the subject firm.

On page two of their petition the petitioners identified Manpower Professional as a “primary firm affected by NAFTA.” However, Manpower Professional supplied personnel to Delphi's Oak Creek facility and therefore was not a “primary firm.” Manpower Professional did not supply components, unfinished, or semifinished goods to Delphi's Oak Creek facility, nor did they assemble or finish products made by Delphi's Oak Creek facility.

Conclusion

After careful review of the additional facts obtained on remand, I conclude that there was a shift in production from the workers' firm to Mexico of articles that are like or directly competitive with those produced by the subject firm. In accordance with the provisions of the Trade Act, I make the following certification:

All workers of Delphi Automotive Systems Corporation, Delphi Delco Electronics Division, Body and Security Team, Oak Creek, Wisconsin who became totally or partially separated from employment on or after January 3, 2001, through two years from the issuance of this revised determination, are eligible to apply for NAFTA-TAA under section 250 of the Trade Act of 1974.

Signed at Washington, DC this 17th day of June 2003.
Elliott S. Kushner,
Certifying Officer, Division of Trade Adjustment Assistance.

[FR Doc. 03-16897 Filed 7-2-03; 8:45 am]

BILLING CODE 4510-30-P